DEPARTMENT OF ENERGY

Federal Energy Regulatory Commission

[Docket No. CP20-504-000]

Northern Natural Gas Company; Notice of Schedule for Environmental Review of the Lake City 1st Branch Line Abandonment and Capacity Replacement Project

On July 31, 2020, Northern Natural Gas Company (Northern) filed an application in Docket No. CP20-504-000 requesting a Certificate of Public Convenience and Necessity pursuant to Section 7 of the Natural Gas Act to abandon in place and construct and operate certain natural gas pipeline facilities. The proposed project is known as the Lake City 1st Branch Line Abandonment and Capacity Replacement Project (Project) and would provide for safer long-term operation of Northern's system.

On August 7, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—February 26, 2021

90-day Federal Authorization Decision Deadline—May 27, 2021

If a schedule change becomes necessary, additional notice will be provided so that the relevant agencies are kept informed of the Project's progress.

Project Description

Northern proposes the following actions in Webster and Calhoun Counties, Iowa: (1) Abandon in-place about 34.2 miles of the Lake City 1st branch pipeline from Dayton to Lake City; (2) construct and operate about 9.2 miles of 6-inch-diameter pipeline and associated aboveground appurtenances (an extension of the Lake City 2nd branch line); and (3) uprate the Maximum Allowable Operating Pressure of the existing Callender branch pipeline, the existing Manson 2nd branch pipeline, and 25.3 miles of the existing Lake City 2nd branch pipeline.

Background

On August 31, 2020, the Commission issued a Notice of Intent to Prepare an Environmental Assessment for the Proposed Lake City 1st Branch Line Abandonment and Capacity Replacement Project and Request for Comments on Environmental Issues (NOI). The NOI was sent to affected landowners; federal, state, and local government agencies; elected officials; environmental and public interest groups; Native American tribes; other interested parties; and local libraries and newspapers. In response to the NOI, the Commission received comments from three landowners and the Natural Resources Conservation Service. The primary issues raised by the commentors are concerns regarding federal permits and the Project's impacts on farmland and private property. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the eLibrary link, select General Search from the eLibrary menu, enter the selected date range and Docket Number excluding the last three digits (i.e., CP20-504), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 6, 2020.
Kimberly D. Bose,
Secretary.

[FR Doc. 2020-22546 Filed 10-9-20; 8:45 am]

BILLING CODE 6717-01-P